DEPARTMENT OF STATE

[Public Notice 5511]

Announcement of Meetings of the International Telecommunication Advisory Committee

Summary: This notice announces meetings of the International Telecommunication Advisory Committee (ITAC).

The International Telecommunication Advisory Committee (ITAC) will meet to prepare advice on proposed U.S. contributions to Study Group 13 (Next Generation Networks) of the International Telecommunication Union's Telecommunication Standardization Sector on Wednesday September 20, 2006, 10:30 a.m.-4 p.m. Eastern Time at the offices of COMTek, 14151 Newbrook Drive, Suite 400, Chantilly, VA 20151.

The International Telecommunication Advisory Committee (ITAC) will meet to prepare advice on proposed U.S. contributions to Study Group 15 (Optical and other transport network infrastructures) of the International Telecommunication Union's Telecommunication Standardization Sector on Friday, October 13 starting 30 minutes after the closure of the closing plenaries of the ATIS OPTXS and NIPP technical subcommittees meeting at the Marriott Vancouver Pinnacle, 1128 West Hastings Street, Vancouver, British Columbia, Canada V6E 4R5.

The International Telecommunication Advisory Committee (ITAC) will meet to prepare advice on proposed U.S. contributions to Study Group 16 (Multimedia terminals, systems and applications) of the International Telecommunication Union's Telecommunication Standardization Sector on Thursday October 26, 2006, 10:30 a.m.-4 p.m. Eastern Time at the offices of COMTek, 14151 Newbrook Drive, Suite 400, Chantilly, VA 20151.

These meetings are open to the public, and conference bridges may be available. Further information may be obtained from the secretariat minardje@state.gov, telephone 202-647-3234.

Dated: August 25, 2006.
James G. Ennis,
Foreign Affairs Officer, International Communications & Information Policy, Multilateral Affairs, Department of State.

[FR Doc. 06-7343 Filed 8-30-06; 8:45 am]

BILLING CODE 4710-07-P